DEPARTMENT OF TRANSPORTATION

Office of the Secretary

[Docket ID Number: DOT-OST-2014-0031]

Notice of Submission of Proposed Information Collection to OMB; Agency Request for Renewal of a Previously Approved Collection: Airline Service Quality Performance—Part 234

AGENCY: Office of the Assistant Secretary for Research and Technology (OST-R), Bureau of Transportation Statistics (BTS), Department of Transportation (DOT or Department).

ACTION: Notice and request for comments.

SUMMARY: In accordance with the Paperwork Reduction Act of 1995, this notice announces that DOT is submitting a request to the Office of Management and Budget (OMB) for renewal of OMB Control Number 2138-0041 covering Airline Service Quality Performance On-time Performance and Mishandled Baggage reports that the largest U.S. air carriers file with DOT under the Code of Federal Regulations (CFR). In this notice, the Department responds to previously submitted comments and announces an additional 30 days of public comment.

DATES: Comments on this notice must be received by April 30, 2025. Interested persons are invited to submit comments regarding this proposal.

ADDRESSES: Written comments and recommendations for the proposed ICR should be sent within 30 days of publication of this notice to www.reginfo.gov/public/do/PRAMain. Find this particular ICR by selecting “Currently under 30-day Review—Open for Public Comments” or by using the search function.

FOR FURTHER INFORMATION CONTACT: Cecelia Robinson, Office of Airline Information, RTS-42, Room E34-410, OST-R, BTS, 1200 New Jersey Avenue SE, Washington, DC 20590-0001, Telephone Number (202) 366-4405 (voice), Fax Number (202) 366-3383 or Email cecelia.robinson@dot.gov.

SUPPLEMENTARY INFORMATION: DOT collects information regarding flight performance and mishandled baggage, wheelchairs, and scooters from the largest U.S. air carriers under 14 CFR part 234. The air carriers required to provide this information to DOT consist of the U.S. air carriers that account for at least 0.5 percent of domestic scheduled-passenger revenues (Reporting Carriers) as most recently determined by OAI. Also, an air carrier that is not a Reporting Carrier may voluntarily submit the flight performance and mishandled baggage, wheelchairs, and scooters information to the Department pursuant to 14 CFR 234.7. A carrier that voluntarily reports such data to DOT must do so for at least 12 consecutive months.

The Part 234 On-time Performance reports submitted to DOT by air carriers must consist of information on domestic flight operations and performance as described in 14 CFR 234.4.¹ The Part 234 Mishandled Baggage reports submitted to DOT by each Reporting Carrier must include the following information for covered domestic flights: (1) the number of bags mishandled in its custody, (2) the number of bags enplaned into the aircraft cargo compartment, (3) the number of wheelchairs and scooters mishandled in its custody, and (4) the number of wheelchairs and scooters enplaned into the aircraft cargo compartment.² Each carrier reporting flight performance and mishandled baggage, wheelchair, and scooter information to DOT must do so on a monthly basis for the covered flights it operates and for any covered flights held out under the Reporting Carrier's code (as the only U.S. carrier code) and operated by a codeshare partner of the Reporting Carrier that is a U.S. air carrier. These codeshare partners generally adopt the marketing carrier's branding and, thus, are referred to as branded codeshare partners.

¹ The format and instructions for reporting this information are in Technical Reporting Directive #27—On-Time Performance, effective January 1, 2018, available at: https://www.bts.gov/topics/airlines-and-airports/number-31-technical-directive-time-reporting-effective-jan-1-2019. The reporting instructions in Technical Reporting Directive #27 were republished in Technical Directive #31 (effective January 1, 2025), which is intended to provide the list of Reporting Carriers for 2025. See https://www.bts.gov/explore-topics-and-geography/modes/aviation/number-39-technical-directive-reporting-time.

² The format and instructions for reporting mishandled baggage and wheelchair and scooter information to DOT are in Technical Reporting Directive #30A—Mishandled Baggage and Wheelchairs and Scooters (Amended), effective January 1, 2019, available at: https://www.bts.dot.gov/sites/bts.dot.gov/files/docs/explore-topics-and-geography/topics/airlines-and-airports/224606/technicaldirective30abaggage2019amended.pdf.

DOT uses the information reported by airlines to provide airline performance information and statistics on the BTS website and in the Air Travel Consumer Report (ATCR), a monthly publication of DOT's Office of Aviation Consumer Protection (OACP). OACP also uses the data to monitor flight delays and cancellations. Consumers, industry stakeholders, and academics use the information DOT publishes to understand and compare airlines' service quality performance, including airlines' rates of on-time performance and cancellation and rates of baggage and wheelchair and scooter mishandling. Additionally, section 544(c) of the FAA Reauthorization Act of 2024 (Act), which was enacted on May 16, 2024, directs DOT to evaluate data regarding the type and frequency of incidents involving the mishandling of wheelchairs on aircraft and determine whether there are trends with respect to the data evaluated and make available on the DOT website a report containing the results of the evaluations of data and determinations on how DOT plans to address such results. The mishandled wheelchairs and scooters data reported under part 234 is essential for DOT to comply with this statutory mandate. As for the Part 234 flight performance data, DOT's Federal Aviation Administration uses the data to analyze air traffic delays. The data can be analyzed for airport design changes, capital investments, and planning new runways or airports based on current and projected airport delays and traffic levels.

A 60-day comment period soliciting comments on the information collections was published on November 8, 2024. See 89 FR at 88861. Three comments were received. On January 28, 2025, the Department published a second notice seeking comment on the information collections, which did not include the Department's responses to the public comments it received in response to the November 8, 2024, notice. See 90 FR 8318.

DOT is publishing this notice to address the comments received on the 60-day notice and announce that its request for renewal of the previously approved information collections described above under OMB Control Number 2138-0041 is being forwarded to OMB. Without further action, OMB authorization of the information collections would expire March 31, 2025.

The Paperwork Reduction Act of 1995 (PRA) and its implementing regulations, 5 CFR part 1320, require Federal agencies to issue two notices seeking public comment on information collection activities before OMB may approve paperwork packages. A Federal agency generally may not conduct or sponsor a collection of information, and the public is generally not required to respond to an information collection, unless it is approved by OMB under the PRA and displays a currently valid OMB Control Number. In addition, no person shall generally be subject to monetary penalty for failing to comply with a collection of information if the collection of information does not display a valid OMB Control Number.

As noted above, on November 8, 2024, the Department published a 60-day notice in the Federal Register soliciting comment on ICRs for which the agency was seeking OMB approval (89 FR at 88861). The Department received comments on the 60-day notice from Airlines for America (A4A), Paralyzed Veterans of America (PVA), and an individual, which are available in the docket. A4A's comments, while recognizing the need for the data, urge the Department to update its on-time performance regulation in part 234 before seeking approval from OMB to renew the collection of part 234 information. PVA's comments, which address the collection of data on mishandled baggage and wheelchair and scooters by the Department, emphasize the importance of all reporting requirements for mishandled wheelchairs and scooters being consistent with requirements in the Department's disability regulation in 14 CFR part 382. The individual comment also supports the Department's collection of mishandled wheelchairs and scooters information, stating that this information allows the Department to hold airlines accountable for mishandling wheelchairs and other assistive devices. The individual adds that this accountability would ideally encourage airlines to improve their practice and handling of wheelchairs and other devices. By this notice, the Department provides its response to these comments. The Department further announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b) and (c); 5 CFR 1320.12(d). The 30-day notice informs the regulated community to file relevant comments to OMB and affords the agency adequate time to digest public comments before it renders a decision. 60 FR 44983 (Aug. 29, 1995). Therefore, respondents should submit their respective comments to OMB within 30 days of publication to best ensure their full consideration. 5 CFR 1320.12(c); see also 60 FR 44983 (Aug. 29, 1995).

Part 234 On-Time Performance

1. A4A Comments and DOT Response Regarding Current Information Collection

A4A's comments assert that, before the Department seeks approval from OMB to renew the collection of part 234 information, the Department should update part 234, and this information collection. As support, A4A cites section 511 of the FAA Reauthorization Act of 2024 (2024 FAA Act) ³ which requires the Department to initiate a rulemaking to revise part 234 to create a new “cause of delay” category or categories that are due to instructions from the FAA Air Traffic Control System. A4A also references its petition for rulemaking to revise on-time performance reporting regulations in part 234. See Airlines for America, et al., Petition for Rulemaking To Revise On-time Performance Reporting Regulations Under 14 CFR part 234, Docket No. DOT-OST-2024-0123-0001, available at: https://www.regulations.gov/document/DOT-OST-2024-0123-0001. In its comments, A4A suggests that airlines should not face any regulatory liability risk when the Department itself has not abided by the directions of Congress to update the reporting requirements. A4A adds that BTS should revise the applicable technical reporting directives with instructions to report on-time performance data to be consistent with congressional instruction in section 511 of the 2024 FAA Act and other A4A recommendations for quality, utility, and clarity before seeking renewal of the information collection. A4A further asserts that to improve the quality of information, BTS should implement the recommendations from a recent DOT Office of Inspector General (OIG) report addressing flight data collected by BTS. See Audit Report, AV2025003, available at https://www.oig.dot.gov/library-item/46490 (OIG Report).

³ FAA Reauthorization Act of 2024, Public Law 118-63, sec. 511 (May 16, 2024).

The Department agrees with A4A that there are issues regarding airlines' reporting of flight performance data that need to be addressed. The Department intends to examine and address these issues as it works through the process of responding to the A4A petition for rulemaking. As directed in section 511 of the FAA Reauthorization Act of 2024, BTS has already initiated a rulemaking titled Revisions to Cause of Delay Categories (RIN 2105-AF29) to address the categories of the causes of delay and cancellation the largest U.S. airlines report to DOT. In addition, BTS has agreed to implement each of the OIG's recommended actions regarding flight performance data. These processes will take time to constructively complete and the Department finds great benefit in continuing to collect on-time performance reports while the issues are evaluated. Therefore, the Department seeks renewal of this information collection while the processes continue.

To the extent the airlines and other members of the public have questions about how DOT intends to enforce certain requirements for reporting on-time performance data, those entities or individuals should contact the Office of Aviation Consumer Protection within the U.S. Department of Transportation's Office of the General Counsel.

2. A4A Comments and DOT Response Regarding Reporting Burden

A4A notes its belief that DOT understated the estimated recordkeeping and reporting burdens for on-time performance and urges DOT to reduce the reporting burden on airlines. A4A states that, based on information from its reporting airline members, for reporting of on-time performance, it can take an air carrier up to 22 hours per month instead of 10 hours per month as estimated by the Department to report flight performance information for the flights they operate, which includes time accrued for data compilation, validation, error correction, and closing of reports for submission to the Department.

Because A4A's estimate is representative of Reporting Carriers, the Department will adopt this estimate for the purposes estimating the burden or reporting for on-time performance. A4A did not comment on the Department's estimate that it can take air carriers reporting flight performance information for flights operated by their code share partners 16 hours per response each month. Nevertheless, the Department will also rely on A4A's estimate of 22 hours per respondent for reporting flight performance information for flights operated by codeshare partners. Additionally, A4A asserts that more time would be needed to accurately report on the root cause of a delay and estimates approximately 20 more hours per carrier due to the complexity of root cause analysis on downstream flights and the required validation and error correction for precision. The Department will include this time within its burden estimates because at least one Reporting Carrier has been reporting root cause.⁴

⁴ See OIG Report, page 12.

Part 234 Mishandled Baggage and Wheelchairs and Scooters

1. PVA Comment and DOT Response Regarding Current Information Collection

PVA's comments emphasize the importance of collecting data on mishandled baggage and mishandled wheelchair and scooters, especially the number of enplaned wheelchairs and scooters and the number of wheelchairs and scooters mishandled while in the carriers' custody. PVA states that the data collection is necessary for advocacy and for enforcing the Air Carrier Access Act. PVA also points out that collecting the data is consistent with section 544(c) of the 2024 FAA Act, which requires the Department to evaluate data regarding the type and frequency of incidents of mishandled wheelchairs. Further, PVA suggests that there are ways to enhance the quality, utility, and clarity of the information to be collected. Specifically, in reference to BTS Technical Directive #30A for reporting mishandled baggage, wheelchairs, and scooters issued in 2018 ⁵ and the Department's December 17, 2024 final rule on Ensuring Safe Accommodations for Air Travelers With Disabilities Using Wheelchairs (Wheelchair Rule),⁶ PVA states that the Department must update relevant guidance to ensure all reporting requirements for mishandled wheelchairs and scooters are consistent with 14 CFR 382.130, which concerns handling requirements for wheelchairs, scooters, and other assistive devices. PVA also urges the Department to update the Technical Directive regarding when a wheelchair or scooter is in the custody of the carrier as that term is defined under 14 CFR 382.3 and provide any further guidance as necessary to ensure proper reporting.

⁵ Technical Reporting Directive #30A—Mishandled Baggage and Wheelchairs and Scooters (Amended), effective Jan. 1, 2019. https://www.bts.gov/topics/airlines-and-airports/number-30a-technical-directive-mishandled-baggage-amended-effective-jan.

⁶ 89 FR 102398.

The Department has carefully considered PVA's comments regarding the Wheelchair Rule and its impact on Technical Directive #30A and does not believe that an amendment of the Technical Directive is necessary. How carriers are required to handle wheelchairs, scooters, and other mobility aids, and what obligations apply (e.g., notifying passengers, providing loaner devices, and arranging for repair) when these devices are mishandled is addressed in 14 CFR 382.130. The regulation does not address how carriers should report mishandled devices. With respect to the definition for “custody,” the Department considers the definition of custody in 14 CFR 382.3 to be consistent with the existing definition of custody in Technical Directive #30A.⁷

⁷ Under 14 CFR 382.3, an airline's custody begins when the passenger hands the device to an airline's representative or agent or leaves the wheelchair, scooter, or other assistive device at a location as instructed by the airline; an airline's custody ends when the passenger, or someone acting on behalf of the passenger, or another airline takes physical possession of the wheelchair, scooter, or other assistive device. Similarly, Technical Directive #30A provides that for the purposes of reporting mishandled baggage data to the Department, a bag, wheelchair, or scooter is in the custody of a carrier beginning at the point in time which the passenger hands the bag to the carrier's representative or agent, or leaves the bag at a location as instructed by the carrier. A carrier's custody ends when the passenger, a party acting on the passenger's behalf, or another carrier takes physical possession of the bag.

2. A4A Comments and DOT Response Regarding Reporting Burden

For mishandled baggage reporting, the Department's 60-day notice estimated 10 hours monthly burden for each Reporting Carrier to report data for flights it operates, and another 16 hours for each Reporting Carrier to report data for flights operated by its branded codeshare partners. A4A suggested that the monthly burden should be increased to 14 hours for reporting baggage data and to 72 hours for reporting wheelchairs data, both for flights operated by the reporting airlines. A4A indicates that the estimated burden reflects time accrued compiling data, validating data with third-party service providers, error correction, and closing reports for submission to the Department. In this Notice, the Department is using A4A's estimates for submitting baggage, wheelchair, and scooters data for reporting carrier-operated flights. A4A did not suggest a different burden estimate for reporting mishandled baggage, wheelchair, and scooter data for flights operated by reporting airlines' codeshare partners. However, based on A4A's estimates that reporting wheelchairs and scooters data is significantly more burdensome than reporting other baggage data, the Department is using the estimated burden in the Department's 60-day notice for reporting baggage (excluding wheelchairs) data for codeshare flights (16 hours) and applying A4A's estimated burden for reporting wheelchair data (72 hours) to codeshare flights.

The title, a description of the respondents, and an estimate of the annual recordkeeping and periodic reporting burden for each of the information collections for which DOT seeks renewal are set forth below.

1. Airline Service Quality Performance Reports—Part 234 On-Time Performance

Respondents: Certificated air carriers that account for at least 0.5 percent of the domestic scheduled-service passenger revenues are required to report flight performance data for the covered flights that they operate as described in 14 CFR 234.4; Certificated air carriers that account for at least 0.5 percent of domestic scheduled-service passenger revenues are required to report this information for the covered flights marketed under the carrier's code as the only U.S. carrier code that are operated by another U.S. carrier as described in 14 CFR 234.4; Air carriers may voluntarily report flight performance data pursuant to 14 CFR 234.7.

Estimated Number of Respondents: 14 air carriers (4 of which market codeshare flights).

Frequency: Monthly.

Estimated Average Burden per Response: 42 hours for each respondent to report for the flights operated by the respondent and 42 hours for each respondent that reports for flights operated by its branded code-share partners.

Estimated Total Annual Burden: 9,072 hours (14 air carriers reporting the flight performance information for the flights they operate × 42 hours per response × 12 months = 7,056 hours) + (4 air carriers reporting the flight performance information for flights operated by their branded codeshare partners × 42 hours per response × 12 months = 2,016 hours). This estimate is based on the following information: 14 carriers report the flight performance data for the flights they operated to DOT in calendar year 2025.⁸ Currently, 4 carriers report flight performance data to DOT for their branded codeshare operations.

⁸ See Technical Directive #31, supra note 1.

DOT estimates that respondents will encounter up to a 42-hour burden per month to report flight performance data to DOT for the flights they operate. DOT estimates the respondents that market codeshare flights will also encounter up to a burden of 42 hours per month to report flight performance data to DOT for their branded codeshare operations. The burden estimates include staff time to manage and process the data, including by conducting error validation and precision, and to submit the report through DOT's electronic submission system.

2. Airline Service Quality Performance Reports—Part 234 Mishandled Baggage

Respondents: Certificated air carriers that account for at least 0.5 percent of the domestic scheduled-service passenger revenues are required to report mishandled baggage and wheelchairs and scooters data for the covered flights that they operate as described in 14 CFR 234.6; Certificated air carriers that account for at least 0.5 percent of domestic scheduled-service passenger revenues are also required to report this information for covered flights marketed under the carrier's code as the only U.S. carrier code that are operated by another U.S. carrier as described in 14 CFR 234.6; Air carriers may voluntarily report mishandled baggage and wheelchairs and scooters data pursuant to 14 CFR 234.7.

Estimated Number of Respondents: 14 air carriers (4 that market codeshare flights).

Frequency: Monthly.

Estimated Average Burden per Response: 14 hours for each respondent to report mishandled baggage (other than wheelchairs and scooters) data for the flights operated by the respondent and 72 hours for the respondent to reports mishandled wheelchairs and scooters data for flights operated by the respondent. Additionally, 16 hours to report mishandled baggage (other than wheelchairs and scooters) data for flights operated by the respondent's branded codeshare partners and 72 hours for reporting wheelchairs and scooters data for the flights operated by the respondent's branded codeshare partners.

Estimated Total Annual Burden: 18,672 hours (14 air carriers reporting the mishandled baggage (excluding wheelchairs and scooters) information for flights they operate × 14 hours per response × 12 months = 2,352 hours) + (14 air carriers reporting mishandled wheelchairs and scooters information for flights they operate × 72 hours per response × 12 months = 12,096 hours) + (4 air carriers reporting the mishandled baggage (excluding wheelchairs and scooters) information for flights operated by their branded codeshare partners × 16 hours per response × 12 months = 768 hours) + (4 air carriers reporting the mishandled wheelchairs and scooters information for flights operated by their branded codeshare partners × 72 hours per response × 12 months = 3,456 hours). This estimate is based on the following information: 14 carriers report mishandled baggage and wheelchair and scooter information to DOT in calendar year 2025. Currently, 4 carriers report mishandled baggage and wheelchair and scooter information to DOT for their codeshare operations.

DOT estimates that respondents will encounter on up to a14-hour burden per month to report the mishandled baggage (excluding wheelchairs and scooters) data and up to a 72-hour burden per month to report the mishandled wheelchairs and scooters data to DOT for the flights they operate. This 72-hour burden includes the burden for any respondent to manually enter data notating the enplanement of a wheelchair or scooter.⁹ DOT estimates that each respondent that markets codeshare flights will encounter on average an additional burden of 16 hours per month to report the mishandled baggage (excluding wheelchairs and scooters) and 72 hours per month to report the mishandled wheelchair and scooter data to DOT for its branded codeshare operations. The burden estimates include staff time to manage and process the data and to submit the report through DOT's electronic submission system.

⁹ The Department assumes that most respondents employ automated processes to record that an item enplaned is a wheelchair or scooter for the purposes of reporting data on wheelchairs and scooters to DOT.

Administrative Issues

The Confidential Information Protection and Statistical Efficiency Act of 2002 (44 U.S.C. ch. 35) requires a statistical agency to clearly identify information it collects for non-statistical purposes. BTS hereby notifies the respondents and the public that BTS uses the information it collects under this OMB approval for non-statistical purposes including, but not limited to, publication of both respondent's identity and its data, submission of the information to agencies outside BTS for review, analysis, and possible use in regulatory and other administrative matters.

Public Comments Invited

You are invited to comment on any aspect of this information collection, including: (a) whether the collection of information is necessary for the proper performance of the functions of DOT, including whether the information will have practical utility; (b) the accuracy of DOT's estimate of the burden of the proposed information collection; (c) ways to enhance the quality, utility and clarity of the information to be collected; and (d) ways to minimize the burden of the collection of information on respondents. All comments will also become a matter of public record.

Issued at Washington, DC.
Patricia S. Hu,
Director, Bureau of Transportation Statistics, Office of the Assistant Secretary for Research and Technology.

[FR Doc. 2025-05260 Filed 3-28-25; 8:45 am]

BILLING CODE 4910-9X-P